FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ATS Logistics, LLC (NVO & OFF), 19747 Highway 59 N, Suite 261, Humble, TX 77338, Officers: Lydia R. Ramos, Secretary (QI), Amit K. Gandhi, President, Application Type: New NVO & OFF License

C Auto Group Inc. (OFF), 13224 Valley Blvd., La Puente, CA 91746, Officers: Lida Mov, Secretary (QI), Cindy P. Tang, CEO, Application Type: New OFF License

DSX-Port, Inc. (NVO), 1450 W. Thorndale Avenue, Itasca, IL 60143, Officers: Jeff Aguilar, Vice President (QI), Michael Butterfield, President, Application Type: QI Change

Eastern Logistics Services, Inc. (NVO & OFF), One Cross Island Plaza, Suite 111, Rosedale, NY 11422, Officer: Jimmy Wong, Director (QI), Application Type: New NVO & OFF License

International Cargo Consolidators, Corp. (OFF), 10049 NW 89th Avenue, Bay 3, Medley, FL 33178, Officer: Maria (aka Teri) T. Rodriguez-Olivero, President (QI), Application Type: New OFF License

Popi Trading, Inc. dba Liner American Services N.A. (NVO & OFF), 225 Broadway, Suite 2701, New York, NY 10007, Officers: Cristina Rodriguez, Treasurer (QI), Pablo J. Silva, President, Application Type: New NVO & OFF License

Seascape Lines, Inc. (NVO), 15 Forbush Road, Dublin, NH 03444, Officers: Renee G. Rebolledo, President (QI), C. Wilson Sullivan, Secretary, Application Type: QI Change

World Link Transport, Inc. (NVO & OFF), 1220 Kona Drive, Compton, CA 90220, Officers: Michael M. Goto, President (QI), Nanette Victoriano, Corporate Secretary, Application Type: New NVO & OFF License

By the Commission.
Dated: September 6, 2013.
Karen V. Gregory,
Secretary.

[FR Doc. 2013-22133 Filed 9-11-13; 8:45 am]

BILLING CODE 6730-01-P